DEFENSE NUCLEAR FACILITIES SAFETY BOARD

[Recommendation 2015-1]

Emergency Preparedness and Response at the Pantex Plant

AGENCY: Defense Nuclear Facilities Safety Board.

ACTION: Notice, recommendation; correction.

SUMMARY: The Defense Nuclear Facilities Safety Board (Board) published a notice of a recommendation to the Secretary of Energy in the Federal Register of December 3, 2015, (80 FR 75665), concerning emergency preparedness at the Pantex Plant. The Board corrects that notice by providing the additional information as set forth below.

FOR FURTHER INFORMATION CONTACT: Mark Welch, General Manager, Defense Nuclear Facilities Safety Board, 625 Indiana Avenue NW., Suite 700, Washington, DC 20004-2901, or telephone number (202) 694-7000.

Correction

In the Federal Register of December 3, 2015, in FR Doc. 2015-30562, on page 75673, in the first column, after line 37, add the following information:

CORRESPONDENCE FROM THE SECRETARY

Department of Energy

Under Secretary for Nuclear Security

Administrator, National Nuclear Security Administration

Washington, DC 20585

November 4, 2015

The Honorable Joyce L. Connery

Chairman

Defense Nuclear Facilities Safety Board

65 Indiana Avenue NW., Suite 700

Washington, DC 20004

Dear Madam Chairman:

On behalf of the Secretary, thank you for the opportunity to review the Defense Nuclear Facilities Safety Board (DNFSB) Draft Recommendation 2015-1, Emergency Preparedness and Response at the Pantex Plant. The National Nuclear Security Administration (NNSA) has established specific performance goals for the Pantex Emergency Management Program, to include improvements in the three areas highlighted by the Draft Recommendation 2015-1. These goals are consistent with the mutually agreed-upon benefits of implementing the DNFSB Recommendation 2014-1.

The draft Recommendation's risk assessment states: “it is not possible to do a quantitative assessment of the risk of these [the Pantex Emergency Management Program] elements to provide adequate protection of the workers and the public.” As a point of clarification, the Department of Energy (DOE) demonstrates adequate protection of workers, the public and the environment as an integral part of operating a nuclear facility like that situated at the Pantex Plant. To this end, the Department has put in place a system of requirements, standards, policies and guidance that, when effectively implemented, not only provide reasonable assurance of adequate protection, but takes a very conservative approach to ensure such protection. Functions such as emergency management provide that additional conservatism and margin of protection. We are confident that, even with deficiencies identified by the DNFSB, the Pantex Emergency Management Program can perform its role to ensure this protection. Accordingly, DOE recommends removing the phrase: “in order to provide an adequate protection to the public and the workers” in justifying the need for the draft recommendation.

To increase protection assurances and drive improvement in an effective and efficient manner, I suggest that the best approach to address the concerns identified in your Draft Recommendation is to incorporate ongoing NNSA performance improvement initiatives and enhancements into the existing implementation plans for Recommendation 2014-1. This approach would enable the Department to take a holistic, integrated approach to making the needed improvements at Pantex.

We appreciate the DNFSB's perspective and look forward to continued positive interactions with you and your staff to include Pantex-specific actions and milestones in the existing Implementation Plan for Recommendation 2014-1.

If you have any questions, please contact me or Mr. Geoffrey Beausoleil, Manager, NNSA Production Office, at 865-576-0752.

Sincerely,

Frank G. Klotz

Disposition of DOE Comments on Draft Recommendation 2015-1
DOE comment | Board response | Revised wording
The draft Recommendation's risk assessment states: “it is not possible to do a quantitative assessment of the risk of these [the Pantex Emergency Management Program] elements to provide adequate protection of the workers and the public.” As a point of clarification, the Department of Energy (DOE) demonstrates adequate protection of workers, the public and the environment as an integral part of operating a nuclear facility like that situated at the Pantex Plant. To this end, the Department has put in place a system of requirements, standards, policies and guidance that, when effectively implemented, not only provide reasonable assurance of adequate protection, but takes a very conservative approach to ensure such protection. Functions such as emergency management provide that additional conservatism and margin of protection. We are confident that, even with deficiencies identified by the DNFSB, the Pantex Emergency Management Program can perform its role to ensure this protection. Accordingly, DOE recommends removing the phrase: “in order to provide an adequate protection to the public and the workers” in justifying the need for the draft recommendation | Upon review of Draft Recommendation 2015-1, in the noted phrase the word “provide” was used, whereas, in similar references to adequate protection in other parts of Draft Recommendation 2015-1, the word “ensure” was used. The Board voted to amend the language to reflect that the Recommendation is intended to ensure adequate protection | Original wording of last sentence in first paragraph of the text of the Recommendation: “We believe that DOE and National Nuclear Security Administration (NNSA) must address these concerns in order to provide an adequate protection to the public and the workers at the Pantex Plant.” Revised wording: “We believe that DOE and the National Nuclear Security Administration (NNSA) must address these concerns in order to ensure the adequate protection of the public and the workers at the Pantex Plant.”
To increase protection assurances and drive improvement in an effective and efficient manner, I suggest that the best approach to address the concerns identified in your Draft Recommendation is to incorporate ongoing NNSA performance improvement initiatives and enhancements into the existing implementation plans for Recommendation 2014-1. This approach would enable the Department to take a holistic, integrated approach to making the needed improvements at Pantex | As noted in the “Findings, Supporting Data, and Analysis” document of Draft Recommendation 2015-1, the problems identified in Draft Recommendation 2015-1 will not be adequately addressed by the Board's Recommendation 2014-1, Emergency Preparedness and Response | No change.

Dated: December 4, 2015.
Joyce L. Connery,
Chairman.

[FR Doc. 2015-31093 Filed 12-9-15; 8:45 am]

BILLING CODE 3670-01-P